DEPARTMENT OF AGRICULTURE

Submission for OMB Review; Comment Request

February 15, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Cooperative Agreement for Field Trials and Research Projects for the Advancement of the National Animal ID System (NAIS).

OMB Control Number: 0579-NEW.

Summary of Collection: The Animal and Plant Health Inspection Service (APHIS) regulates the importation and interstate movement of animals and animal products and conducts various other activities to protect the health of our Nation's livestock and poultry. The goal of the NAIS is to be able to identify all animals and premises that have had contact with a foreign or domestic animal disease of concern within 48 hours after discovery. The implementation of the NAIS continues to progress. The first priority has been to get each state operational on premises registration. This will allow producers across the entire country to participate in the NAIS. APHIS will solicit application from State and Tribal government that outline NAIS field trails and research projects that address problems or questions related to NAIS implementation. The information provided on the applications will be used to determine which projects and research receives USDA funding as well as how much funding is received.

Need and Use of the Information: The advent of increased animal disease outbreaks around the globe over the past decade, especially the recent BSE-positive cow found in Washington State, has intensified the public interest in developing a national animal identification program for the purpose of protecting animal health. Fundamental to controlling any disease threat, foreign or domestic, to the Nation's animal resources is to have a system that can identify individual animals or groups, the premises where they are located, and the date of entry to each premises. APHIS initiated implementation of a national animal identification system (NAIS) in 2004. In order to develop and implement an effective national animal identification system, APHIS needs the cooperation of States and industry. The cooperative agreements that APHIS will fund as a result of the information collected on the applications will help ensure stakeholder input and will also help in troubleshooting problems that might arise as NAIS continues to develop.

Description of Respondents: State, Local or Tribal Government; Business or other for-profit.

Number of Respondents: 35.

Frequency of Responses: Reporting: On occasion.

Total Burden Hours: 1,400.

Ruth Brown,
Departmental Information Collection Clearance Officer.

[FR Doc. E6-2440 Filed 2-21-06; 8:45 am]

BILLING CODE 3410-34-P